DEPARTMENT OF COMMERCE

National Telecommunications and Information Administration

Commerce Spectrum Management Advisory Committee Meeting

AGENCY: National Telecommunications and Information Administration, U.S. Department of Commerce.

ACTION: Notice, correction.

SUMMARY: The National Telecommunications and Information Administration (NTIA) published a document in the Federal Register of June 21, 2022, announcing a public meeting of the Commerce Spectrum Management Advisory Committee (Committee). This document contained the incorrect date for the meeting. The correct meeting date is July 15, 2022.

FOR FURTHER INFORMATION CONTACT: Antonio Richardson, Designated Federal Officer, at (202) 482-4156 or richardson@ntia.gov; and/or visit NTIA's website at https://www.ntia.gov/category/csmac.

SUPPLEMENTARY INFORMATION:

Correction

In the Federal Register of June 21, 2022, in FR Doc. 2022-13155, on page 36827, in the third column, correct the DATES caption to read:

DATES: The meeting will be held July 15, 2022, from 1:00 p.m. to 3:00 p.m., Eastern Daylight Time (EDT).

Josephine Arnold,
Acting Chief Counsel, National Telecommunications and Information Administration.

[FR Doc. 2022-14001 Filed 6-29-22; 8:45 am]

BILLING CODE 3510-60-P